DEPARTMENT OF AGRICULTURE

Forest Service

Information Collection; Understanding Value Trade-offs Regarding Fire Hazard Reduction Programs in the Wildland-Urban Interface

AGENCY: Forest Service, USDA.

ACTION: Notice; request for comment.

SUMMARY: In accordance with the Paperwork Reduction Act of 1995, the Forest Service is seeking comments from all interested individuals and organizations on the extension with no revision of a currently approved information collection, Understanding Value Trade-offs regarding Fire Hazard Reduction Programs in the Wildland-Urban Interface.

DATES: Comments must be received in writing on or before June 8, 2015 to be assured of consideration. Comments received after that date will be considered to the extent practicable.

ADDRESSES: Comments concerning this notice should be addressed to José Sánchez, USDA Forest Service, Pacific Southwest Research Station, 4955 Canyon Crest Drive, Riverside, California 92507.

Comments may also be submitted via facsimile to 951-680-1501, or by email to jsanchez@fs.fed.us.

The public may inspect comments received at the Pacific Southwest Research Station, during normal business hours. Visitors are encouraged to call ahead to facilitate entry to the building.

FOR FURTHER INFORMATION CONTACT: José Sánchez, by phone at 951-680-1560. Individuals who use telecommunication devices for the deaf (TDD) may call the Federal Relay Service (FRS) at 1-800-877-8339 twenty-four hours a day, every day of the year, including holidays.

SUPPLEMENTARY INFORMATION:

Title: Understanding Value Trade-offs regarding Fire Hazard Reduction Programs in the Wildland-Urban Interface.

OMB Number: 0596-0189.

Expiration Date of Approval: August 31, 2015.

Type of Request: Extension with revision.

Abstract: Forest Service and university researchers will contact recipients of a phone-mail-phone questionnaire and/or online questionnaire to help forest and fire managers understand value trade-offs regarding fire hazard reduction programs in the wildland-urban interface. Through those contacts, researchers will evaluate the responses of Arizona, Colorado, New Mexico, and Texas residents to different scenarios related to fire-hazard reduction programs, determine how effective residents think the programs are, and calculate how much residents would be willing to pay to implement the alternatives presented to them. This information will help researchers provide better information to natural resource, forest, and fire managers when they are contemplating the kind and type of fire-hazard reduction program to implement to achieve forestland management planning objectives.

A random sample of residents are contacted via random-digit dialed telephone calls and asked to participate in the research study and type of questionnaire (paper or online versions). Those agreeing to participate then answer a minimal set of questions to determine pre-existing knowledge of fuels reduction treatments and provide a mailing address, as well as agreeing to a date and time for an in-depth interview related to the mail questionnaire or to provide email address where to send them a link for an online questionnaire. After completion of the in-depth interview or online questionnaire, no further contact with the participants will occur.

A university research-survey center collects the information for mail/online questionnaires. A Forest Service researcher and collaborators at a cooperating university analyze the data collected. Both researchers are experienced in applied economic non-market valuation research and survey research methods.

The Forest Service, Bureau of Land Management, Bureau of Indian Affairs, National Park Service, Fish and Wildlife Service, as well as many State agencies with fire protection responsibilities will benefit from this information collection.

At present the Forest Service, Bureau of Land Management, Bureau of Indian Affairs, National Park Service, Fish & Wildlife Service, and many State agencies with fire protection responsibilities continue an ambitious and costly fuels reduction program for fire risk reduction and will benefit from public opinion on which treatments are most effective or desirable.

Estimate of Annual Burden: 40 minutes.

Type of Respondents: Members of the public.

Estimated Annual Number of Respondents: 1,334.

Estimated Annual Number of Responses per Respondent: 1.

Estimated Total Annual Burden on Respondents: 659 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: April 2, 2015.
Carlos Rodriguez-Franco,
Associate Deputy Chief, Research & Development.

[FR Doc. 2015-08128 Filed 4-8-15; 8:45 am]

BILLING CODE 3411-15-P